ENVIRONMENTAL PROTECTION AGENCY

[FRL-6997-2]

Agency Information Collection Activities: Proposed Collection; Comment Request; Facility Ground-water Monitoring Requirements

AGENCY: Environmental Protection Agency (EPA).

ACTION: Notice.

SUMMARY: In compliance with the Paperwork Reduction Act (44 U.S.C. 3501 et seq.), this document announces that EPA is planning to submit the following continuing Information Collection Request (ICR) to the Office of Management and Budget (OMB): “Reporting and Recordkeeping Requirements for Facility Ground-water Monitoring Requirements, “ EPA ICR Number 959.11, OMB Control Number 2050-0033, Expiration Date 11/30/2001. Before submitting the ICR to OMB for review and approval, EPA is soliciting comments on specific aspects of the proposed information collection as described below.

DATES: Comments must be submitted on or before August 24, 2001.

ADDRESSES: Commenters must send an original and two copies of their comments referencing Docket Number F-2001-FGMP-FFFFF to RCRA Docket Information Center, Office of Solid Waste (5305W) United States Environmental Protection Agency, Ariel Rios Building, 1200 Pennsylvania Avenue, NW., Washington, DC, 20460. Hand deliveries of comments should be made to the Arlington, VA address listed below. Comments may also be submitted electronically by sending electronic mail through the Internet to: rcra-docket@epamail.gov. Comments in electronic format should also be identified by the Docket Number F-2001-FGMP-FFFFF. All electronic comments must be submitted as an ASCII file avoiding the use of special characters and any form of encryption.

The official record for this action will be kept in paper form. Accordingly, EPA will transfer all comments received electronically into paper form and place them in the official record, which will also include all comments submitted directly in writing. The official record is the paper record maintained in the RCRA Information Center (the RIC address is listed above in this section).

Commenters should not submit any confidential business information (CBI) electronically. An original and two copies of CBI must be submitted under separate cover to: RCRA CBI Document Control Officer, Office of Solid Waste (5303W), United States Environmental Protection Agency, Ariel Rios Building, 1200 Pennsylvania Avenue, NW., Mailcode 5303W, Washington, DC, 20460.

Public comments and supporting materials are available for viewing in the RCRA Information Center (RIC), located at Crystal Gateway, First Floor, 1235 Jefferson Davis Highway, Arlington, VA. The RIC is open from 9:00 a.m. to 4:00 p.m. Monday through Friday, excluding federal holidays. To review docket materials, it is recommended that the public make an appointment by calling (703) 603-9230. The public may copy a maximum of 100 pages from any regulatory docket at no charge. Additional copies are $0.15/page.

This notice and the supporting documents that detail the Reporting and Record keeping Requirements for Facility Ground-water Monitoring Requirements ICR are also available.

FOR FURTHER INFORMATION CONTACT: For general information, contact the RCRA Hotline at 800 424-9346 or TDD 800 553-7672 (hearing impaired). In the Washington, DC, metropolitan area, call 703 412-9810 or TDD 703 412-3323.

For more detailed information on specific aspects of this rulemaking contact Sara Rasmussen by phone at (703) 308-8399, by facsimile at (703) 308-8638, by mail at the Office of Solid Waste (5303W), United States Environmental Protection Agency, Ariel Rios Building, 1200 Pennsylvania Avenue, NW., Mailcode 5303W, Washington, DC, 20460 or e-mail at rasmussen.sara@epa.gov.

SUPPLEMENTARY INFORMATION: Affected entities: Entities potentially affected by this action are those which own or operate surface impoundments, waste piles, land treatment units, and landfills which manage hazardous waste regulated under the Resource Conversation and Recovery Act.

Title: Facility Ground-Water Monitoring Requirements, EPA ICR #959.11; OMB Control Number 2050-0033; expiration date: 11/30/01.

Abstract: Subtitle C of the Resource Conservation and Recovery Act of 1976 (RCRA) creates a comprehensive program for the safe management of hazardous waste. Section 3004 of RCRA requires owners and operators of facilities that treat, store, or dispose of hazardous waste to comply with standards established by EPA that are “necessary to protect human health and the environment.” Section 3005 provides for implementation of these standards under permits issued to owners and operators by EPA or authorized States. Section 3005 also allows owners and operators of facilities in existence when the regulations came into effect to comply with applicable notice requirements to operate until a permit is issued or denied. This statutory authorization to operate prior to permit determination is commonly known as “interim status.” Owners and operators of interim status facilities also must comply with standards set under section 3004.

EPA promulgated ground-water monitoring standards for interim status facilities in 1980 (45 FR 33154, May 19, 1980), codified in 40 CFR part 265, subpart F, and for permitted facilities in 1982 (47 FR 32274, July 26, 1982), codified in 40 CFR part 264, subpart F. Both sets of standards establish programs for protecting ground water from releases of hazardous wastes from land disposal facilities with regulated units (these include surface impoundments, waste piles, land treatment units, and landfills).

The ground-water monitoring requirements for regulated units follow a tiered approach whereby releases of hazardous contaminants are first detected (detection monitoring), then confirmed (compliance monitoring), and, if necessary, are required to be cleaned up (corrective action). Each of these tiers requires collection and analysis of ground-water samples. Owners or operators that conduct ground-water monitoring are required to report information to the oversight agencies on releases of contaminants and to maintain records of ground-water monitoring data at their facilities. The goal of the ground-water monitoring program is to prevent and quickly detect releases of hazardous contaminants to groundwater, and to establish a program whereby any contamination is expeditiously cleaned up as necessary to protect human health and environment.

The Agency may not conduct or sponsor, and a person is not required to respond to, a collection of information unless it displays a currently valid OMB control number. The OMB control numbers for EPA's regulations are listed in 40 CFR part 9 and 48 CFR chapter 15.

The EPA would like to solicit comments to:

(i) Evaluate whether the proposed collection of information is necessary for the proper performance of the functions of the agency, including whether the information will have practical utility;

(ii) Evaluate the accuracy of the agency's estimate of the burden of the proposed collection of information, including the validity of the methodology and assumptions used;

(iii) Enhance the quality, utility, and clarity of the information to be collected; and

(iv) Minimize the burden of the collection of information on those who are to respond, including through the use of appropriate automated electronic, mechanical, or other technological collection techniques or other forms of information technology, e.g., permitting electronic submission of responses.

Burden Statement: For both permitted and interim status land disposal facilities, the estimated total annual hour burden for this information collection is 380,938 hours. The estimated total annual cost burden for this information collection is $51,402,078, which includes labor, capital, operations and maintenance, and purchased service costs. For 393 permitted land disposal facilities, the annual reporting hour burden is estimated to average 130 hours per response, and the annual recordkeeping hour burden is estimated to average 400 hours per year response, which includes time for reading the regulations, implementing a ground-water monitoring system, performing and keeping records of ground-water monitoring and maintaining records. These estimates represent the overall reporting and recordkeeping burdens placed on permitted facilities, regardless of whether they are performing detection monitoring, compliance monitoring, or corrective action. For 431 interim status land disposal facilities, the annual reporting hour burden is estimated to average 45 hours per year, which includes time for developing and submitting notifications, reports, and demonstrations, and the annual record keeping hour burden is estimated to average 355 hours per year, which includes time for reading the regulations, implementing a ground-water monitoring system, performing and keeping records of ground-water monitoring and maintaining records. The burden hour estimates are dramatically higher than presented in the 1998 ICR. This is due to a change in methodology: Hours that were attributed to contractors and counted as “costs” in 1998 have been converted to respondent hours.

Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Matthew Hale,
Acting Director, Office of Solid Waste.

[FR Doc. 01-15878 Filed 6-22-01; 8:45 am]

BILLING CODE 6560-50-P